DEPARTMENT OF DEFENSE

Office of the Secretary

32 CFR Part 312

[Docket ID: DOD-2019-OS-0073]

RIN 0790-AK58

Office of the Inspector General (OIG) Privacy Program

AGENCY: Office of the Inspector General, DoD.

ACTION: Final rule.

SUMMARY: This final rule removes DoD's regulation concerning the Office of the Inspector General (OIG) Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, the part is now unnecessary and may be removed from the CFR.

DATES: This rule is effective on September 11, 2019.

FOR FURTHER INFORMATION CONTACT: Mark Dorgan at 703-699-5680.

SUPPLEMENTARY INFORMATION: DoD now has a single DoD-level Privacy Program rule at 32 CFR part 310 (84 FR 14728) that contains all the codified information required for the Department. OIG Program regulation at 32 CFR part 312, last updated on May 5, 2014 (79 FR 25506), is no longer required and can be removed.

It has been determined that publication of this CFR part removal for public comment is impracticable, unnecessary, and contrary to public interest since it is based on the removal of policies and procedures that are either now reflected in another CFR part, 32 CFR part 310, or are publicly available on the Department's website. To the extent that OIG internal guidance concerning the implementation of the Privacy Act within OIG is necessary, it will continue to be published in Inspector General Instruction 5400.11, “Privacy Act Program,” available at https://www.dodig.mil/Portals/48/Documents/Programs/Privacy%20Program/IGDINST540011AIG-AMsigned1-29-101.pdf?ver=2017-04-14-103826-317 (January 29, 2010).

This rule is one of 20 separate component Privacy rules. With the finalization of the DoD-level Privacy rule at 32 CFR part 310, the Department is eliminating the need for this separate component Privacy rules and reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs” does not apply.

List of Subjects in 32 CFR Part 312

Privacy.

PART 312—[REMOVED]

Accordingly, by the authority of 5 U.S.C. 301, 32 CFR part 312 is removed.

Dated: September 5, 2019.
Shelly E. Finke,
Alternate OSD Federal Register Liaison Officer, Department of Defense.

[FR Doc. 2019-19615 Filed 9-10-19; 8:45 am]

BILLING CODE 5001-06-P